DEPARTMENT OF HEALTH AND HUMAN SERVICES

National Institutes of Health

National Institute of General Medical Sciences; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of General Medical Sciences Special Emphasis Panel, 2007 NIH Director's New Innovator Award External Review.

Date: July 23, 2007.

Time: 8 a.m. to 11:59 p.m.

Agenda: To review and evaluate grant applications.

Place: National Institutes of Health, Natcher Building, 45 Center Drive, Bethesda, MD 20892, (Virtual Meeting).

Contact Person: Judith H. Greenberg, PhD, Director, Division of Genetics and National Institute of General Medical Sciences, National Institutes of Health, Natcher Building, Room 2AN-12B, Bethesda, MD 20892, 301-594-2755, greenbej@nigms.nih.gov.

Name of Committee: National Institute of General Medical Sciences Special Emphasis Panel, NIH Support for Conferences and Scientific Meetings.

Date: July 23, 2007.

Time: 9 a.m. to 5 p.m.

Agenda: To review and evaluate grant applications.

Place: National Institutes of General Medical Sciences, Office of Scientific Review, 45 Center Drive, Room 3AN-12, Bethesda, MD 20892, (Telephone Conference Call).

Contact Person: Arthur L. Zachary, PhD, Office of Scientific Review, National Institute of General Medical Sciences, National Institutes of Health, Natcher Building, Room 3AN-12, Bethesda, MD 20892, (301) 594-2886, zacharya@nigms.nih.gov.

Name of Committee: National Institute of General Medical Sciences Special Emphasis Panel, MBRS Support of Competitive Research.

Date: July 25, 2007.

Time: 8:30 a.m. to 4 p.m.

Agenda: To review and evaluate grant applications.

Place: DoubleTree Hotel, 8120 Wisconsin Ave., Bethesda, MD 20814.

Contact Person: C. Craig Hyde, PhD, Office of Scientific Review, National Institute of General Medical Sciences, National Institutes of Health, Building 45, Room 3AN18, Bethesda, MD 20892, 301-435-3825, ch2v@nih.gov.

Name of Committee: National Institute of General Medical Sciences Special Emphasis Panel, NIH Pathway to Independence Awards.

Date: July 25-26, 2007.

Time: 7 p.m. to 3 p.m.

Agenda: To review and evaluate grant applications.

Place: DoubleTree Hotel, 8120 Wisconsin Ave., Bethesda, MD 20814.

Contact Person: Meredith D. Temple-O'Connor, PhD, Office of Scientific Review, National Institute of General Medical Sciences, National Institutes of Health, 45 Center Drive, Room 3AN12C, Bethesda, MD 20892, 301-594-2772, templeocm@mail.nih.gov.

(Catalogue of Federal Domestic Assistance Program Nos. 93.375, Minority Biomedical Research Support; 93.821, Cell Biology and Biophysics Research; 93.859, Pharmacology, Physiology, and Biological Chemistry Research; 93.862, Genetics and Developmental Biology Research; 93.88, Minority Access to Research Careers; 93.96, Special Minority Initiatives, National Institutes of Health, HHS)

Dated: June 27, 2007.
Anna Snouffer,
Deputy Director, Office of Federal Advisory Committee Policy.

[FR Doc. 07-3299 Filed 7-5-07; 8:45 am]

BILLING CODE 4140-01-M